FEDERAL COMMUNICATIONS COMMISSION

47 CFR Part 96

[GN Docket No. 12-354; FCC 15-47]

Shared Commercial Operations in the 3550-3650 MHz Band

AGENCY: Federal Communications Commission.

ACTION: Final rule; announcement of effective date.

SUMMARY: In this document, the Federal Communications Commission (Commission) announces that the Office of Management and Budget (OMB) has approved, for a period of three years, the information collection requirements associated with the Commission's Report and Order, GN Docket No. 12-354, FCC 15-47. This document is consistent with the Report and Order, which stated that the Commission would publish a document in the Federal Register announcing OMB approval and the effective date of the requirements.

DATES: 47 CFR 96.17(d); 96.21(a)(3); 96.23(b); 96.33(b); 96.35(e); 96.39(a), (c)-(g); 96.41(d)(1); 96.43(b); 96.45(b); 96.45(d), 96.51; 96.57(a)-(c); 96.59(a); 96.61; 96.63; and 96.67(b)-(c), published at 80 FR 36163, June 23, 2015, are effective on December 16, 2015.

FOR FURTHER INFORMATION CONTACT: Cathy Williams, Cathy.Williams@fcc.gov, (202) 418-2918.

SUPPLEMENTARY INFORMATION: This document announces that, on November 9, 2015, OMB approved the revised information collection requirements contained in the Commission's Report and Order, FCC 15-47, published at 80 FR 36163, June 23, 2015. The OMB Control Number is 3060-1211. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1211 in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on November 9, 2015, for the revised information collection requirements contained in the Commission's rules at 47 CFR 96.17; 96.21; 96.23; 96.33; 96.35; 96.39; 96.41; 96.43; 96.45; 96.51; 96.57; 96.59; 96.61; 96.63; and 96.67. Under 5 CFR part 1320, an agency may not conduct or sponsor a collection of information unless it displays a current, valid OMB Control Number.

No person shall be subject to any penalty for failing to comply with a collection of information subject to the Paperwork Reduction Act that does not display a current, valid OMB Control Number. The OMB Control Numbers is 3060-1211.

The foregoing notice is required by the Paperwork Reduction Act of 1995, Public Law 104-13, October 1, 1995, and 44 U.S.C. 3507.

The total annual reporting burdens and costs for the respondents are as follows:

OMB Control Number: 3060-1211.

OMB Approval Date: November 9, 2015.

OMB Expiration Date: November 30, 2018.

Title: Sections 96.17; 96.21; 96.23; 96.33; 96.35; 96.39; 96.41; 96.43; 96.45; 96.51; 96.57; 96.59; 96.61; 96.63; and 96.67, Commercial Operations in the 3550-3650 MHz Band.

Form Number: Not applicable.

Type of Review: New information collection.

Respondents: Business or other for-profit entities, Not for profit institutions and State, Local or Tribal Governments.

Number of Respondents and Responses: 110,782 respondents; 136,432 responses.

Estimated Time per Response: 0-.5 hours.

Frequency of Response: One-time and on occasion reporting requirements; other reporting requirements—as needed basis for the equipment safety certifications, and consistently (likely daily) responses automated via the device.

Obligation to Respond: Required to obtain or retain benefits. The statutory authority for this collection is contained in 47 U.S.C. 151, 152, 154(i), 154(j), 155(c), 302(a), 303, 304, 307(e), and 316.

Total Annual Burden: 37,977 hours.

Annual Cost Burden: $7,318,100.

Privacy Act Impact Assessment: No impact(s).

Nature and Extent of Confidentiality: There is no need for confidentiality with this collection of information. The information to be collected will be made available for public inspection. Applicants may request materials or information submitted to the Commission be given confidential treatment under 47 CFR 0.459 of the Commission's rules.

Needs and Uses: The Federal Communications Commission (Commission) received approval for new OMB Control No. 3060-1211 from the Office of Management and Budget (OMB). The purpose of this proposal was to obtain OMB approval of rules applicable to 3550-3700 MHz (3.5 GHz) users and licensees and applicants for database administrators, as adopted by the Commission in a Report and Order (Report and Order) on April 17, 2015 (WT Docket No. 12-354; FCC 15-47). By the Report and Order, the Commission creates additional capacity for wireless broadband by adopting a new approach to spectrum management to facilitate spectrum sharing between commercial and federal users and among multiple tiers of commercial users. The order creates a Spectrum Access System (SAS), an online database that will manage and coordinate frequency use in the band through registration and other technical information. The SAS will use the information to assign frequencies, manage interference, and authorize spectrum use. The Commission will use the information to authorize the SAS Administrator(s) and ESC operator(s).

Federal Communications Commission.
Marlene H. Dortch,
Secretary.

[FR Doc. 2015-29921 Filed 11-24-15; 8:45 am]

BILLING CODE 6712-01-P